DEPARTMENT OF THE TREASURY

Submission for OMB Review; Comment Request

March 9, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 17, 2006 to be assured of consideration.

Internal Revenue Service (IRS)

OMB Number: 1545-0202.

Type of Review: Extension.

Title: Form 5310, Application for Determination for Terminating Plan; Form 6088, Distributable Benefits from Employee Pension Benefit Plans.

Form: IRS Form-5310 and 6088.

Description: Employees who have qualified deferred compensation plans can take an income tax deduction for contributions to their plans. IRS uses the data on Forms 5310 and 6088 to determine whether a plan still qualifies and whether there is any discrimination in benefits.

Respondents: Business or other for-profit.

Estimated Total Burden Hours: 1,813,650 hours.

OMB Number: 1545-1120.

Type of Review: Extension.

Title: CO-69-87 and CO-68-87 (Final) Final Regulations Under Sections 382 and 383 of the Internal Revenue Code of 1986; Pre-change Attributes; CO-18-90 (Final) Final Regulations Under Section 382 of the Internal Revenue Code of 1986; Limitations on Corporate Net Operating Loss Carryforwards.

Description: (CO-69-87 and CO-68-87) these regulations require reporting by a corporation after it undergoes an “ownership change” under sections 382 and 383. Corporations required to report under these regulations include those with capital loss carryovers and excess credits. (CO-18-90) These regulations provide for rules for the treatment of options under IRC section 382 for purposes of determining whether a corporation undergoes an ownership change. The regulation allows for certain elections for corporations whose stock is subject to options.

Respondents: Business or other for-profit.

Estimated Total Burden Hours: 220,575 hours.

OMB Number: 1545-1617.

Type of Review: Extension.

Title: REG-124069-02 (Final) Section 6038—Returns Required with Respect to Controlled Foreign Partnerships; REG-118966-97 (Final) Information Reporting With Respect to Certain Foreign Partnership and Certain Foreign Corporations.

Description: REG-124069-02 Treasury Regulation Section 1.6038-3 requires certain United States person who own interests in controlled foreign partnerships to annually report information to the IRS on Form 8865. This regulation amends the reporting rules under Treasury Regulation section 1.6038-e to provide that a U.S. person must follow the filing requirements that are specified in the instructions for Form 8865 when the U.S. person must file Form 8865 and the foreign partnership completes and files Form 1065 or Form 1065-B. REG-118966-97 section 6038 requires certain U.S. persons who own interest in controlled foreign partnerships or certain foreign corporations to annually report information to the IRS. This regulation provides reporting rules to identify foreign partnerships and foreign corporations which are controlled by U.S. persons.

Respondents: Individuals or households; business or other for-profit.

Estimated Total Burden Hours: 500 hours.

OMB Number: 1545-1968.

Type of Review: Extension.

Title: Alternative Tax on Qualifying Shipping Activities.

Form: IRS Form-8902.

Description: Form 8902 is used to elect the alternative tax on notional income from qualifying shipping activities and to figure the alternative tax.

Respondents: Business or other for-profit.

Estimated Total Burden Hours: 3,056 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-3808 Filed 3-15-06; 8:45 am]

BILLING CODE 4830-01-P